FEDERAL COMMUNICATIONS COMMISSION

Information Collection Being Submitted for Review and Approval to the Office of Management and Budget

AGENCY: Federal Communications Commission.

ACTION: Notice and request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before March 29, 2012. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-XXXX.

Title: Application for Mobility Fund Phase I Support.

Form No.: FCC Form 180.

Type of Review: New collection.

Respondents: Business or other for-profit, not-for-profit institutions, and state, local or tribal government.

Number of Respondents: 250 respondents; 250 responses.

Estimated Time per Response: 1.5 hours.

Frequency of Response: On occasion reporting requirement.

Obligation To Respond: Required to obtain or retain benefits. Statutory authority for this information collection is contained in 47 U.S.C. sections 154, 254 and 303(r).

Total Annual Burden: 375 hours.

Total Annual Cost: N/A.

Privacy Act Impact Assessment: N/A.

Nature and Extent of Confidentiality: No questions of a confidential nature are asked.

Needs and Uses: The Commission will submit this information collection to the Office of Management and Budget (OMB) during this 30 day comment period in order to obtain the full three year clearance from them. The Commission is requesting OMB approval for a new information collection.

On November 18, 2011, the Commission released the Connect America Fund & Intercarrier Compensation Reform Order, FCC 11-161, which adopted rules to govern the Connect America Fund Mobility Fund (Mobility Fund). In adopting the rules, the Commission comprehensively reformed and modernized the universal service and intercarrier compensation systems to ensure that all Americans have access to robust, affordable broadband and advanced mobile services. Concluding that mobile voice and broadband services provide unique consumer benefits; and that promoting the universal availability of such services is a vital component of the Commission's universal service mission, the Commission created the Mobility Fund. Mobility Fund Phase I support will be awarded through a nationwide reverse auction. For Phase I of the Mobility Fund, the Commission provided up to $300 million in one-time support to immediately accelerate deployment of networks for mobile broadband services in unserved areas. The Commission also established a separate and complementary one-time Tribal Mobility Fund Phase I to award up to $50 million in additional universal service funding to Tribal Areas, including Alaska, to accelerate mobile broadband availability in these remote and underserved areas. The Commission will use a two-stage application process similar to the one used in spectrum license auctions. Based on the Commission's experience with auctions and consistent with the record, this two-stage collection of information balances the need to collect information essential to conduct a successful auction with administrative efficiency.

Under section 1.21001(c) of the Commission's rules, an applicant may be required, as a prerequisite to participating in competitive bidding, to post a bond or place funds on deposit with the Commission. If a deposit is required, applicants may be required to submit FCC Form 159 and/or an attachment to its newly created FCC Form 180. FCC Form 159 is a remittance advice form that applicants/licensees file when making payment(s) to the Commission, including auction payments. The OMB Control number for the FCC Form 159 is 3060-0589.

OMB Control Number: 3060-XXXX.

Title: Application to Participate in an Auction for Mobility Fund Phase I Support.

Form No.: FCC Form 680.

Type of Review: New collection.

Respondents: Business or other for-profit, not-for-profit institutions, and state, local or tribal government.

Number of Respondents: 250 respondents; 250 responses.

Estimated Time per Response: 1.5 hours.

Frequency of Response: On occasion reporting requirement.

Obligation to Respond: Required to obtain or retain benefits. Statutory authority for this information collection is contained in 47 U.S.C. sections 154, 254 and 303(r).

Total Annual Burden: 375 hours.

Total Annual Cost: N/A.

Privacy Act Impact Assessment: N/A.

Nature and Extent of Confidentiality: No questions of a confidential nature are asked.

Needs and Uses: The Commission will submit this information collection to the Office of Management and Budget (OMB) during this 30 day comment period in order to obtain the full three year clearance from them. The Commission is requesting OMB approval for a new information collection.

On November 18, 2011, the Commission released the Connect America Fund & Intercarrier Compensation Reform Order, FCC 11-161, which adopted rules to govern the Connect America Fund Mobility Fund (Mobility Fund). In adopting the rules, the Commission comprehensively reformed and modernized the universal service and intercarrier compensation systems to ensure that all Americans have access to robust, affordable broadband and advanced mobile services. Concluding that mobile voice and broadband services provide unique consumer benefits; and that promoting the universal availability of such services is a vital component of the Commission's universal service mission, the Commission created the Mobility Fund. Mobility Fund Phase I support will be awarded through a nationwide reverse auction. For Phase I of the Mobility Fund, the Commission provided up to $300 million in one-time support to immediately accelerate deployment of networks for mobile broadband services in unserved areas. The Commission also established a separate and complementary one-time Tribal Mobility Fund Phase I to award up to $50 million in additional universal service funding to Tribal Areas, including Alaska, to accelerate mobile broadband availability in these remote and underserved areas. The Commission will use a two-stage application process similar to the one used in spectrum license auctions. Based on the Commission's experience with auctions and consistent with the record, this two-stage collection of information balances the need to collect information essential to conduct a successful auction with administrative efficiency.

The Commission needs to use the information collected in determining whether the winning bidders are qualified to receive Mobility Fund support. After the auction has concluded, a winning bidder will be required to file the newly created FCC Form 680 to qualify for and receive support. Those applications will be subject to a review of the applicants' eligibility and qualifications to receive support. Commission staff will review the information collected and will determine whether applicants claiming status to receive support are eligible for the status claimed. Without such information, the Commission could not determine whether to provide the support to the winning bidder.

Federal Communications Commission.
Marlene H. Dortch,
Secretary, Office of the Secretary, Office of Managing Director.

[FR Doc. 2012-4574 Filed 2-27-12; 8:45 am]

BILLING CODE 6712-01-P